DEPARTMENT OF COMMERCE

International Trade Administration

[A-549-502]

Notice of Extension of Time Limit for Final Results of Antidumping Duty Administrative Review: Certain Welded Carbon Steel Pipes and Tubes From Thailand

AGENCY: Import Administration, International Trade Administration, Department of Commerce.

EFFECTIVE DATE: August 15, 2001.

SUMMARY: The Department of Commerce (the Department) is extending the time limit for the final results of the 1999-2000 antidumping duty administrative review of the antidumping order on certain welded carbon steel pipes and tubes from Thailand until no later than October 9, 2001. This review covers the period March 1, 1999, through February 29, 2000. The extension is made pursuant to section 751(a)(3)(A) of the Tariff Act of 1930, as amended by the Uruguay Round Agreements Act (hereinafter, “the Act”).

FOR FURTHER INFORMATION CONTACT: Javier Barrientos, Office of AD/CVD Enforcement 7, Import Administration, International Trade Administration, U.S. Department of Commerce, 14th Street and Constitution Avenue, NW., Washington, DC 20230, telephone (202) 482-2243.

Applicable Statute and Regulations: Unless otherwise indicated, all citations to the statute are references to the provisions effective January 1, 1995, the effective date of the amendments made to the Tariff Act of 1930 (the Act) by the Uruguay Round Agreements Act (URAA). In addition, unless otherwise indicated, all citations to the Department's regulations are to the regulations codified at 19 CFR part 351 (2000).

SUPPLEMENTARY INFORMATION:

Background

On March 11, 1986, the Department published, in the Federal Register, an antidumping duty order on circular welded carbon steel pipes and tubes from Thailand (51 FR 8341). On March 16, 2000, the Department published a notice of opportunity to request an administrative review of this order covering the period March 1, 1999, through February 29, 2000 (65 FR 14242). Timely requests for an administrative review of the antidumping duty order with respect to sales by Saha Thai Steel Company, Ltd. (Saha Thai) during the POR were filed by Saha Thai; two importers, Ferro Union Inc. and ASOMA Corp.; and three domestic producers, Allied Tube and Conduit Corporation, Sawhill Tubular Division—AK Steel Inc., and Wheatland Tube Company (collectively, the petitioners). The Department published a notice of initiation of this antidumping duty administrative review on May 1, 2000 (65 FR 25303).

Because the Department determined that it was not practicable to complete this review within the statutory time limits, on November 20, 2000, we published, in the Federal Register, a notice of extension of the time limit for the preliminary results of this review (65 FR 69734). As a result, we extended the deadline for the preliminary results to March 31, 2001; however, because this date fell on a non-business day, the preliminary results were issued on April 2, 2001. On April 12, 2001, the preliminary results of review were published in the Federal Register (66 FR 18901). From June 4 through 13, 2001, the Department verified the sales and cost questionnaire responses of Saha Thai in Thailand.

Extension of Time Limits for Final Results

Under section 751(a)(3)(A) of the Act, the Department may extend the deadline for completion of an administrative review if it determines that it is not practicable to complete the review within the statutory time limit of 365 days. In the instant case, the Department has determined that it is not practicable to complete the review within the statutory time limit due to the need for analysis of certain complex issues, including the date of sale.

Because it is not practicable to complete this review within the time limits mandated by the Act (245 days from the last day of the anniversary month for preliminary results, 120 additional days for final results), in accordance with section 751(a)(3)(A) of the Act, the Department is extending the time limit for the final results an additional 60 days to no later than October 9, 2001.

This notice is issued and published in accordance with section 751(a)(3)(A) of the Act and section 351.213(h)(2) of the Department's regulations.

Dated: August 7, 2001.
Joseph A. Spetrini,
Deputy Assistant Secretary, AD/CVD Enforcement Group III.

[FR Doc. 01-20553 Filed 8-14-01; 8:45 am]

BILLING CODE 3510-DS-P